DEPARTMENT OF COMMERCE

International Trade Administration

[A-570-106]

Wooden Cabinets and Vanities and Components Thereof From the People's Republic of China: Preliminary Recission of Antidumping Duty New Shipper Review; 2020

AGENCY: Enforcement and Compliance, International Trade Administration, Department of Commerce.

SUMMARY: The Department of Commerce (Commerce) preliminarily determines that Dalian Hualing Wood Co., Ltd. (Hualing) does not qualify as a new shipper and we are preliminarily rescinding this new shipper review (NSR). We invite interested parties to comment on this preliminary rescission.

DATES: Applicable August 18, 2021.

FOR FURTHER INFORMATION CONTACT: Jacob Keller, AD/CVD Operations Office I, Enforcement and Compliance, International Trade Administration, U.S. Department of Commerce, 1401 Constitution Avenue NW, Washington, DC 20230; telephone: (202) 482-4849.

SUPPLEMENTARY INFORMATION:

Background

On April 21, 2020, we published in the Federal Register an antidumping duty order on wooden cabinets and vanities and components thereof (cabinets) from the People's Republic of China (China).¹ On December 1, 2020, Commerce initiated the antidumping duty NSR of wooden cabinets from China for the period of review, April 1, 2020, through September 30, 2020, for Hualing.² For additional background, see the Preliminary Decision Memorandum.³

¹ See Wooden Cabinets and Vanities and Components Thereof from the People's Republic of China: Antidumping Duty Order, 86 FR 22126 (April 21, 2020) (Order).

² See Wooden Cabinets and Vanities and Components Thereof from the People's Republic of China: Initiation of Antidumping Duty New Shipper Review, 85 FR 77162 (December 1, 2020).

³ See Memorandum, “Wooden Cabinets and Vanities and Components Thereof from the People's Republic of China: Decision Memorandum for the Preliminary Intent to Rescind the Antidumping Duty New Shipper Review; 2020,” issued concurrently with, and hereby adopted by, this notice (Preliminary Decision Memorandum).

Scope of the Order

The products covered by the Order are wooden cabinets and vanities that are for permanent installation (including floor mounted, wall mounted, ceiling hung or by attachment of plumbing), and wooden components thereof. For a complete description of the scope of the Order, see the Preliminary Decision Memorandum.⁴

⁴ Id.

Methodology

Commerce is conducting this review in accordance with section 75l(a)(2)(B) of the Tariff Act of 1930, as amended (the Act), and 19 CFR 351.214. For a full description of the methodology underlying our conclusions, see the Preliminary Decision Memorandum. A list of sections in the Preliminary Decision Memorandum is attached in the appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum can be accessed directly at http://enforcement.trade.gov/frn/.

Preliminary Intent To Rescind the Antidumping Duty New Shipper Review

Based on information on the record, we determine that Hualing does not meet the minimum requirements in its request for the NSR under 19 CFR 351.214(b)(2)(i). Therefore, we preliminarily determine that it is appropriate to rescind the NSR with respect to Hualing.⁵

⁵ We have not conducted a detailed bona fides analysis for these preliminary results due to the preliminary decision that Hualing is not eligible for an NSR. See the Preliminary Decision Memorandum.

Public Comment

Pursuant to 19 CFR 351.309(c)(1)(ii), interested parties may submit case briefs no later than 30 days after the date of publication of this notice. Rebuttal briefs, limited to issues raised in the case briefs, may be filed no later than seven days after the time limit for filing case briefs.⁶ Commerce has modified certain of its requirements for serving documents containing business proprietary information until further notice.⁷ Parties who submit case briefs or rebuttal briefs in this proceeding are requested to submit with each brief: (1) A statement of the issue; (2) a brief summary of the argument; and (3) a table of authorities.⁸ Executive summaries should be limited to five pages total, including footnotes.⁹ All submissions, with limited exceptions, must be filed electronically using ACCESS.¹⁰ Electronically filed comments must be received successfully in its entirety by Commerce's electronic records system, ACCESS, by 5 p.m. Eastern Time on the due date.

⁶ See 19 CFR 351.309(d)(1); see also Temporary Rule Modifying AD/CVD Service Requirements Due to COVID-19; Extension of Effective Period, 85 FR 41363 (July 10, 2020) (Temporary Rule).

⁷ See Temporary Rule.

⁸ See 19 CFR 351.309(c)(2) and (d)(2).

⁹ Id.

¹⁰ See 19 CFR 351.303.

Pursuant to 19 CFR 351.310(c), interested parties who wish to request a hearing, must submit a written request to the Assistant Secretary for Enforcement and Compliance, filed electronically via ACCESS. Requests should contain: (1) The party's name, address, and telephone number; (2) the number of participants; and (3) a list of issues to be discussed. Issues raised in the hearing will be limited to those raised in the respective case briefs. If a request for a hearing is made, Commerce intends to hold the hearing at a time and date to be determined. An electronically filed hearing request must be received successfully in its entirety by Commerce's electronic records system, ACCESS, by 5:00 p.m. Eastern Time within 30 days after the date of publication of this notice.¹¹

¹¹ See 19 CFR 351.310(c).

Commerce intends to issue the final results of this NSR, including the results of its analysis of issues raised in any written briefs, no later than 90 days after the date of publication of this notice, unless extended, pursuant to section 751(a)(2)(B) of the Act.

Assessment Rates

If Commerce issues a final rescission of this review, Commerce does not intend to instruct U.S. Customs and Border Protection (CBP) to liquidate the relevant entry because the entry is subject to the administrative review covering the period April 1, 2020, through March 31, 2021, initiated on June 11, 2021.¹²

¹² See Initiation of Antidumping and Countervailing Duty Administrative Reviews 86 FR 31282 (June 11, 2021).

If Commerce does not proceed to a final rescission of this NSR, pursuant to 19 CFR 351.202(b)(1), it will calculate an importer-specific assessment rate based on the final results of this review. However, pursuant to Commerce's refinement to its assessment practice in non-market economy cases, for entries that were not reported in the U.S. sales database submitted by Hualing, Commerce intends to instruct CBP to liquidate such entries at the China-wide rate.¹³

¹³ See Non-Market Economy Antidumping Proceedings: Assessment of Antidumping Duties, 76 FR 65694, 65694-95 (October 24, 2011).

Cash Deposit Instructions

If Commerce proceeds to a final rescission of this review, the cash deposit rate will continue to be the China-wide rate for Hualing because Commerce will not have determined an individual weighted-average dumping margin for Hualing. If Commerce determines an individual weighted-average dumping margin for Hualing, it intends to instruct CBP to collect cash deposits, effective upon the publication of the final results of review, equal to the calculated weighted-average dumping margin.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(2)(B) and 777(i)(1) of the Act.

Dated: August 12, 2021.
Christian Marsh,
Acting Assistant Secretary for Enforcement and Compliance.

Appendix

List of Topics Discussed in the Preliminary Decision Memorandum

I. Summary

II. Background

III. Scope of the Order

IV. Discussion of the Methodology

V. Recommendation

[FR Doc. 2021-17731 Filed 8-17-21; 8:45 am]

BILLING CODE 3510-DS-P